FEDERAL COMMUNICATIONS COMMISSION

47 CFR Parts 0, 1, 2, 15, and 18

[ET Docket No. 15-170; RM-11673; DA 15-956]

Extension of Time for Comments on Equipment Authorization

AGENCY: Federal Communications Commission.

ACTION: Proposed rule; extension of comment deadline.

SUMMARY: In this document, the Federal Communications Commission's (Commission's) Office of Engineering and Technology Bureau (Bureau) extends the deadlines for interested parties to submit comments and reply comments in response to the Equipment Authorization and Electronic Labeling for Wireless Devices.

DATES: The comment period for the proposed rules in FCC 15-92 published at 80 FR 46900, August 6, 2015, has been extended. Comments are due on or before October 9, 2015; reply comments are due on or before November 9, 2015.

ADDRESSES: You may submit comments on the Equipment Authorization and Electronic Labeling for Wireless Devices, identified by ET Docket No. 15-170 by any of the following methods:

• Electronic Filers: Federal Communication Commission's Electronic Comments Filing System (ECFS): http://fjallfoss.fcc.gov/ecfs2/. Follow the instructions for submitting comments.

• Paper Filers: All hand-delivered or messenger-delivered paper filings for the Commission's Secretary must be delivered to FCC Headquarters at 445 12th Street SW., Room TW-A325, Washington, DC 20554. The filing hours are 8:00 a.m. to 7:00 p.m. Eastern Time (ET). All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington, DC 20554.

• People with Disabilities: To request materials in accessible formats for people with disabilities (braille, large print, electronic files, or audio format), send an email to fcc504@fcc.gov or call the Consumer & Governmental Affairs Bureau at 202-418-0530 (voice), 202-418-0432 (TTY).

FOR FURTHER INFORMATION CONTACT: Brian Butler, Policy and Rules Division, Office of Engineering and Technology Bureau at (202) 418-2702.

SUPPLEMENTARY INFORMATION: This is a summary of the Bureau's Order in ET Docket No. 15-170, RM-11673; DA 15-956, adopted and released August 25, 2015. The complete text of this document is available for public inspection and copying from 8:00 a.m. to 4:30 p.m. ET Monday through Thursday or from 8:00 a.m. to 11:30 a.m. ET on Fridays in the FCC Reference Information Center, 445 12th Street SW., Room CY-A257, Washington, DC 20554. The complete text may be purchased from the Commission's duplicating contractor, Best Copy and Printing, Inc. (BCPI), telephone 202-488-5300, facsimile 202-488-5563, or by contacting BCPI on its Web site: http://www.BCPIWEB.com. The complete text is also available on the Commission's Web site at http://wireless.fcc.gov, or by using the search function on the ECFS Web page at http://www.fcc.gov/cgb/ecfs/.

Synopsis

On July 17, 2015, the Commission adopted a Notice of Proposed Rulemaking (“NPRM”) in the above captioned proceedings to update the rules that govern the evaluation and approval of RF devices. The NPRM established that comments in this proceeding are due on September 9, 2015 and reply comments are due on September 22, 2015.

Recently, the Telecommunications Industry Association (“TIA”) and the Information Technology Industry Council (“ITI”) jointly requested a 30-day extension of time for filing initial comments and a 15-day extension of time for filing reply comments. Subsequently, the Consumer Electronics Association (“CEA”) requested a two-week extension of the time for filing comments and a three-week extension for filing reply comments. More recently, the American National Standards Institute Accredited Standards Committee C63 (“ANSI ASC63”) requested a 30-day extension of both the comment and reply comment deadlines. TIA and ITI state that the NPRM addressed a “wide range of equipment approval issues of a technical, legal, and practical nature, impacting a diverse set of stakeholders, each of whom will need to closely analyze and consider the potential effect of the rule changes being considered” and that the extension will allow the parties to submit more comprehensive responses. TIA and ITI also contend that the rule changes are closely related to the recent changes updating the Commission's Equipment Authorization program and the extension will ensure that they can consider issues they consider to be related. CEA states that this rulemaking concerns a complex and technical area and claims that the comment periods are insufficient for it to consult with its member companies within the timeframe provided. ANSI ASC63 expressed similar concerns.

The Commission does not routinely grant extensions of time in rulemaking proceedings. However, we believe that a 30-day extension of the comment filing period followed by a 15-day extension to the reply comment filing period will provide parties with an opportunity to more fully analyze and respond to the complex technical issues raised in the NPRM thus allowing development of a more complete record in these proceedings.

Accordingly, it is ordered, pursuant to the delegated authority contained in 47 CFR 0.31 and 0.241(a), that the deadlines for filing comments and reply comments in the above captioned proceedings are extended to October 9, 2015 and November 9, 2015.

Federal Communications Commission.
Julius P. Knapp,
Chief, Office of Engineering and Technology.

[FR Doc. 2015-21634 Filed 8-31-15; 8:45 am]

BILLING CODE 6712-01-P